DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Hempstead County, Arkansas, and Incorporated Areas
Docket No.: FEMA-B-1085
Black Branch | Approximately 0.60 mile downstream of County Highway 118 | +318 | Unincorporated Areas of Hempstead County.
| Approximately 1,850 feet upstream of Patmos Road | +364
North Tributary to Caney Creek | Approximately 1,200 feet downstream of I-30 | +288 | Unincorporated Areas of Hempstead County.
| Approximately 1,700 feet upstream of I-30 | +302
Pate Creek | Approximately 0.62 mile downstream of South Phillips Drive | +278 | Unincorporated Areas of Hempstead County.
| Just upstream of County Highway 248 | +311
Tributary to Caney Creek | Approximately 0.41 mile downstream of West 3rd Street | +285 | Unincorporated Areas of Hempstead County.
| Approximately 1,800 feet upstream of West 3rd Street | +299
Tributary to Pate Creek | At the confluence with Pate Creek | +301 | Unincorporated Areas of Hempstead County.
| Approximately 700 feet downstream of Bill Clinton Drive | +319
* National Geodetic Vertical Datum.
+ North American Vertical Datum.
# Depth in feet above ground.
‸ Mean Sea Level, rounded to the nearest 0.1 meter.
ADDRESSES
Unincorporated Areas of Hempstead County
Maps are available for inspection at the Hempstead County Courthouse, 400 South Washington Street, Hope, AR 71801.
Jones County, Iowa, and Incorporated Areas
Docket No.: FEMA-B-1075
Maquoketa River | Approximately 425 feet downstream of U.S. Route 151 | +803 | Unincorporated Areas of Jones County.
| Approximately 0.73 mile upstream of U.S. Route 151 | +805
Unnamed Stream | Approximately 600 feet downstream of U.S. Route 151 | +818 | Unincorporated Areas of Jones County.
| Approximately 250 feet downstream of U.S. Route 151 | +819
* National Geodetic Vertical Datum.
+ North American Vertical Datum.
# Depth in feet above ground.
‸ Mean Sea Level, rounded to the nearest 0.1 meter.
ADDRESSES
Unincorporated Areas of Jones County
Maps are available for inspection at the Jones County Courthouse, 500 West Main Street, Anamosa, IA 52205.
Calhoun County, Michigan (All Jurisdictions)
Docket No.: FEMA-B-1085
Duck Lake | Entire shoreline within community | +930 | Township of Clarence.
Kalamazoo River | Approximately 705 feet downstream of 20th Street | +807 | City of Springfield.
| Approximately 0.33 mile upstream of Angell Street | +808
Kalamazoo River | Approximately 5 miles upstream of I-69 North | +881 | Township of Marshall.
| Approximately 200 feet downstream of Kalamazoo Avenue | +885
Kalamazoo River | Approximately 1.08 miles upstream of 23 Mile Road | +919 | Township of Sheridan.
| Approximately 1.1 miles upstream of 23 Mile Road | +919
| Approximately 1.08 miles downstream of Albion Street | +929
| Approximately 0.7 mile downstream of Albion Street | +930
Lyon Lake | Entire shoreline within community | +941 | Township of Fredonia.
North Branch Kalamazoo River | Approximately 225 feet upstream of 29 ½ Mile Road | +947 | Township of Sheridan.
| Approximately 0.75 mile upstream of 29 ½ Mile Road | +947
* National Geodetic Vertical Datum.
+ North American Vertical Datum.
# Depth in feet above ground.
‸ Mean Sea Level, rounded to the nearest 0.1 meter.
ADDRESSES
City of Springfield
Maps are available for inspection at 601 Avenue A, Springfield, MI 49037.
Township of Clarence
Maps are available for inspection at 27052 R Drive North, Albion, MI 49224.
Township of Fredonia
Maps are available for inspection at 8803 17 Mile Road, Marshall, MI 49068.
Township of Marshall
Maps are available for inspection at 13551 Myron Avery Drive, Marshall, MI 49068.
Township of Sheridan
Maps are available for inspection at 13355 29th Mile Road, Albion, MI 49224.
Clinton County, Missouri, and Incorporated Areas
Docket No.: FEMA-B-1106
Concord Creek | Approximately 30 feet upstream of the confluence with Funkhouser Creek | +879 | City of Plattsburg.
| Approximately 25 feet downstream of East Concord Drive | +901
Dicks Creek | Approximately 20 feet upstream of the City of Trimble corporate limit | +931 | City of Trimble, Unincorporated Areas of Clinton County.
Funkhouser Creek | Approximately 725 feet downstream of the confluence with Concord Creek | +876 | City of Plattsburg.
| Approximately 350 feet downstream of the confluence with Concord Creek | +878
Funkhouser Creek | Approximately 225 feet upstream of Broadway Street | +923 | City Plattsburg, Unincorporated Areas of Clinton County.
| Approximately 25 feet downstream of Plotsky Avenue | +943
Smithland Lake | Entire shoreline within community | +876 | City of Trimble, Unincorporated Areas of Clinton County.
* National Geodetic Vertical Datum.
+ North American Vertical Datum.
# Depth in feet above ground.
‸ Mean Sea Level, rounded to the nearest 0.1 meter.
ADDRESSES
City of Plattsburg
Maps are available for inspection at 114 West Maple Street, Plattsburg, MO 64477.
City of Trimble
Maps are available for inspection at 201 Port Arthur Road, Trimble, MO 64492.
Unincorporated Areas of Clinton County
Maps are available for inspection at 207 North Main Street, Plattsburg, MO 64477.
Fulton County, Ohio, and Incorporated Areas
Docket No.: FEMA-B-1085
Bad Creek | Approximately 1,200 feet downstream of State Highway 109 | +694 | Village of Delta.
| Approximately 50 feet downstream of State Highway 109 | +697
Brush Creek | Approximately 0.5 mile upstream of County Highway 24 | +713 | Village of Archbold.
| Approximately 100 feet upstream of County Highway 22 | +724
North Turkeyfoot Creek | Approximately 0.7 mile upstream of County Highway 13 | +742 | City of Wauseon.
| Approximately 0.8 mile upstream of County Highway 13 | +743
* National Geodetic Vertical Datum.
+ North American Vertical Datum.
# Depth in feet above ground.
‸ Mean Sea Level, rounded to the nearest 0.1 meter.
ADDRESSES
City of Wauseon
Maps are available for inspection at City Hall, 230 Clinton Street, Wauseon, OH 43567.
Village of Archbold
Maps are available for inspection at the Municipal Building, 300 North Defiance Street, Archbold, OH 43502.
Village of Delta
Maps are available for inspection at the Memorial Hall, 401 Main Street, Delta, OH 43515.
Richland County, Ohio, and Incorporated Areas
Docket No.: FEMA-B-1087
Clear Fork Mohican River | Approximately 0.72 mile upstream of Benedict Road | +1,062 | Unincorporated Areas of Richland County.
| Approximately 0.09 mile upstream of State Route 95 | +1,068
Clear Fork Mohican River | Approximately 0.95 mile upstream of Main Street | +1,161 | Village of Lexington.
| Approximately 0.23 mile upstream of Lexington Ontario Road | +1,178
* National Geodetic Vertical Datum.
+ North American Vertical Datum.
# Depth in feet above ground.
‸ Mean Sea Level, rounded to the nearest 0.1 meter.
ADDRESSES
Unincorporated Areas of Richland County
Maps are available for inspection at 1495 West Longview Avenue, Mansfield, OH 44906.
Village of Lexington
Maps are available for inspection at 44 Main Street, Lexington, OH 44904.
McCormick County, South Carolina, and Incorporated Areas
Docket No.: FEMA-B-1087
Clark Hill Reservoir/Lake Thurmond | Entire shoreline within community | +339 | Town of Parksville, Unincorporated Areas of McCormick County.
* National Geodetic Vertical Datum.
+ North American Vertical Datum.
# Depth in feet above ground.
‸ Mean Sea Level, rounded to the nearest 0.1 meter.
ADDRESSES
Town of Parksville
Maps are available for inspection at the McCormick County Administrative Offices, 362 Airport Road, McCormick, SC 29835.
Unincorporated Areas of McCormick County
Maps are available for inspection at the McCormick County Administrative Offices, 362 Airport Road, McCormick, SC 29835.
Maverick County, Texas, and Incorporated Areas
Docket No.: FEMA-B-1085
Tributary to Seco Creek | Approximately 115 feet downstream of U.S. Route 277 | +737 | City of Eagle Pass, Unincorporated Areas of Maverick County.
| Approximately 200 feet upstream of U.S. Route 277 | +740
Unnamed Tributary of Rio Grande | Approximately 200 feet upstream of Laura Street | +737 | Unincorporated Areas of Maverick County.
| Just downstream of Montemayor Street | +749
* National Geodetic Vertical Datum.
+ North American Vertical Datum.
# Depth in feet above ground.
‸ Mean Sea Level, rounded to the nearest 0.1 meter.
ADDRESSES
City of Eagle Pass
Maps are available for inspection at 500 Quarry Street, Suite 3, Eagle Pass, TX 78852.
Unincorporated Areas of Maverick County
Maps are available for inspection at 100 South Monroe Street, Eagle Pass, TX 78852.
Trempealeau County, Wisconsin, and Incorporated Areas
Docket No.: FEMA-B-1056
Beaver Creek | Approximately 330 feet downstream of State Highway 93 | +680 | Unincorporated Areas of Trempealeau County.
| Approximately 400 feet upstream of State Highway 93 | +685
Buffalo River | Approximately 575 feet upstream of Chimney Rock Road | +855 | City of Osseo, Unincorporated Areas of Trempealeau County, Village of Eleva, Village of Strum.
| Approximately 4,200 feet upstream of County Highway R | +991
Lake Marinuka (Beaver Creek) | Approximately 1,950 feet upstream of Main Street | +702 | Unincorporated Areas of Trempealeau County.
| Approximately 3,400 feet upstream of Main Street | +702
Mississippi River | At the LaCrosse County boundary | +651 | Unincorporated Areas of Trempealeau County, Village of Trempealeau.
| At the Buffalo County boundary | +659
North Fork Beaver Creek | Approximately 1,500 feet downstream of Bridge Street | +765 | Unincorporated Areas of Trempealeau County.
| Approximately 1,330 feet downstream of Bridge Street | +766
Rod and Gun Club Tributary | Approximately 560 feet downstream of the confluence with the Trempealeau River | +950 | City of Osseo.
| Just downstream of 5th Street | +951
South Fork Beaver Creek | Approximately 1,860 feet downstream of South Main Street | +765 | Unincorporated Areas of Trempealeau County.
| Approximately 420 feet upstream of South Main Street | +767
South Fork Buffalo River | Approximately 700 feet downstream of County Highway B | +961 | Unincorporated Areas of Trempealeau County.
| Approximately 625 feet downstream of County Highway B | +961
Trempealeau River | Approximately 3.1 miles downstream of West Main Street | +717 | City of Arcadia, City of Blair, City of Independence, City of Whitehall, Unincorporated Areas of Trempealeau County.
| Approximately 4.15 miles upstream of Spring Street | +861
Turton Creek | Approximately 100 feet upstream of Main Street | +730 | City of Arcadia.
| Approximately 1,175 feet downstream of Oak Street | +734
* National Geodetic Vertical Datum.
+ North American Vertical Datum.
# Depth in feet above ground.
‸ Mean Sea Level, rounded to the nearest 0.1 meter.
ADDRESSES
City of Arcadia
Maps are available for inspection at City Hall, 203 West Main Street, Arcadia, WI 54612.
City of Blair
Maps are available for inspection at City Hall, 122 South Urberg Avenue, Blair, WI 54616.
City of Independence
Maps are available for inspection at City Hall, 23688 Adams Street, Independence, WI 54747.
City of Osseo
Maps are available for inspection at City Hall, 13712 8th Street, Osseo, WI 54758.
City of Whitehall
Maps are available for inspection at City Hall, 18620 Hobson Street, Whitehall, WI 54773.
Unincorporated Areas of Trempealeau County
Maps are available for inspection at the Trempealeau County Courthouse, 36245 Main Street, Whitehall, WI 54773.
Village of Eleva
Maps are available for inspection at the Village Hall, 25952 East Mondovi Street, Eleva, WI 54738.
Village of Strum
Maps are available for inspection at the Village Hall, 202 South 5th Avenue, Strum, WI 54770.
Village of Trempealeau
Maps are available for inspection at the Village Hall, 24455 3rd Street, Trempealeau, WI 54661.

(Catalog of Federal Domestic Assistance No. 97.022, “Flood Insurance.”)

Dated: January 11, 2011.
Edward L. Connor,
Acting Federal Insurance and Mitigation Administrator, Mitigation, Department of Homeland Security, Federal Emergency Management Agency.

[FR Doc. 2011-1060 Filed 1-19-11; 8:45 am]

BILLING CODE 9110-12-P